DEPARTMENT OF THE INTERIOR

National Park Service

[NPS-WASO-NAGPRA-NPS0037840; PPWOCRADN0-PCU00RP14.R50000]

Notice of Inventory Completion: San Francisco State University NAGPRA Program, San Francisco, CA

AGENCY: National Park Service, Interior.

ACTION: Notice.

SUMMARY: In accordance with the Native American Graves Protection and Repatriation Act (NAGPRA), the San Francisco State University (SF State) NAGPRA Program has completed an inventory of human remains and associated funerary objects and has determined that there is a cultural affiliation between the associated funerary objects and Indian Tribes or Native Hawaiian organizations in this notice.

DATES: Repatriation of the associated funerary objects in this notice may occur on or after May 31, 2024.

ADDRESSES: Elise Green, San Francisco State University NAGPRA Program, 1600 Holloway Avenue, San Francisco, CA 94132, telephone (415) 405-3545, email egreen@sfsu.edu.

SUPPLEMENTARY INFORMATION: This notice is published as part of the National Park Service's administrative responsibilities under NAGPRA. The determinations in this notice are the sole responsibility of the San Francisco State University NAGPRA Program, and additional information on the determinations in this notice, including the results of consultation, can be found in the inventory or related records. The National Park Service is not responsible for the determinations in this notice.

Abstract of Information Available

Based on the information available, human remains representing, at least, 100 individuals have been reasonably identified in a Notice of Inventory Completion published in the Federal Register on August 29, 2008, by the Phoebe A. Hearst Museum of Anthropology, University of California, Berkeley (73 FR 50995-50996). The 160 associated funerary objects listed in this notice are chert arrow points, obsidian arrow points, obsidian cores, chert scraper, mollusk shells, clamshell beads, pestles, mano, shaft straightener, Olivella beads, metal object, buckle, glass, porcelain fragments, shell fragments, blades, wood, basalt flake, bone awl, and a snag hook. CA-TEH-58 was located on the Sacramento River about five miles north of Red Bluff.

CA-TEH-58 was recorded in 1950 by U.C. Berkeley and was described as an historic Wintun village site. The site was destroyed because of construction of the Red Bank Reservoir project. CA-TEH-58 was excavated in 1953, 1955, and 1962 by A. E. Treganza of SF State. The 1953 project was sponsored by the National Park Service; U.C. Berkeley sponsored the 1955 excavation. The burials (1-104) collected in 1953 and 1955 are curated at U.C. Berkeley although, according to an undated document at the Treganza Museum (Anon n.d. [a]), “TEH-58 Burial 103” was sent to the Lowie (now Hearst) Museum at U. C. Berkeley indicating that burial had been curated at SF State. A letter from the Treganza Museum to the Lowie Museum on May 26, 1969, indicates the materials were transferred “late in 1965 or early in 1966” (Van Dyke 1969). The 1962 project was conducted under National Park Service contract # 14-10-0434-893 between SF State and the National Park Service. The objects from the 1962 project were curated at SF State. According to Treganza Burials 105-109 were curated at SF State. No human remains from CA-TEH-58 were found at SF State during the current inventory.

It was once common practice by museums to use chemicals on cultural items to prevent deterioration by mold, insects, and moisture. To date, the SF State NAGPRA Program has no records documenting use of chemicals at our facilities, and we currently do not use chemicals on any cultural items. A former SF State professor, Dr. Michael Moratto, stated that staff used glues, polyvinyl acetate, and a solution called Glyptol to mend and stabilize cultural objects in the past. Prior non-invasive and non-destructive hazardous chemical tests conducted at the SF State NAGPRA Program repositories show arsenic, mercury, and/or lead in some storage containers, surfaces, and certain cultural items.

Cultural Affiliation

Based on the information available and the results of consultation, cultural affiliation is clearly identified by the information available about the human remains and associated funerary objects described in this notice.

Determinations

The SF State University NAGPRA Program has determined that:

• The 160 objects described in this notice are reasonably believed to have been placed intentionally with or near individual human remains at the time of death or later as part of the death rite or ceremony.

• There is a reasonable connection between the associated funerary objects described in this notice and the Grindstone Indian Rancheria of Wintun-Wailaki Indians of California and the Paskenta Band of Nomlaki Indians of California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after May 31, 2024. If competing requests for repatriation are received, the SF State NAGPRA Program must determine the most appropriate requestor prior to repatriation. Requests for joint repatriation of the associated funerary objects are considered a single request and not competing requests. The SF State NAGPRA Program is responsible for sending a copy of this notice to the Indian Tribes and Native Hawaiian organizations identified in this notice.

Authority: Native American Graves Protection and Repatriation Act, 25 U.S.C. 3003, and the implementing regulations, 43 CFR 10.10.

Dated: April 23, 2024.
Melanie O'Brien,
Manager, National NAGPRA Program.

[FR Doc. 2024-09413 Filed 4-30-24; 8:45 am]

BILLING CODE 4312-52-P